FEDERAL EMERGENCY MANAGEMENT AGENCY

44 CFR Part 67

[Docket No. FEMA-B-7418]

Proposed Flood Elevation Determinations

AGENCY: Federal Emergency Management Agency (FEMA).

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA proposes to make determinations of BFE and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Acting Administrator, Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be amended as follows:

Flooding sources(s) | Location of referenced elevation | Elevation in feet * (NGVD): Effective | Elevation in feet * (NGVD): Modified | Communities affected
NEW MEXICO
Bernalillo County and Incorporated Areas
Arroyo Del Pino | Near Marigold Drive | #1 | #3 | Bernalillo County (Uninc. Areas), City of Albuquerque.
North Arroyo De Domingo Baca | At intersection of Interstate 25 and Corona Avenue | #3 | #2 | City of Albuquerque.
| At intersection of Anaheim Avenue and Louisiana Boulevard | #1 | None
| Approximately 200 feet north of intersection of Lowell Street and Corona Avenue | #2 | None
South Arroyo De Domingo Baca | At intersection of Pino Avenue and Holbrook Street | #1 | #3 | Bernalillo County (Uninc. Areas), City of Albuquerque.
| Southwest of intersection of Palomas Avenue and Lowell Street | * 5,914 | * 5,913
| Just downstream of Bobcat Boulevard | None | #2
South Arroyo De Domingo Baca Tributary | Approximately 800 feet downstream of Paseo Del Norte | None | #2 | Bernalillo County (Uninc. Areas).
| Approximately 200 feet upstream of Ridge Road | None | #2
Middle Branch South Arroyo De Domingo Baca | Approximately 500 feet downstream of Ridge Road | #1 | #1 | Bernalillo County (Uninc. Areas).
| Approximately 200 feet upstream of Ridge Road | #1 | #1
South Branch South Arroyo De Domingo Baca | Approximately 600 feet downstream of Ridge Road | #1 | #1 | Bernalillo County (Uninc. Areas).
| Approximately 200 feet upstream of Ridge Road | #1 | #1
Tijeras Arroyo | Just upstream of Sandia Military Reservation | * 5,385 | * 5,386 | Bernalillo County (Uninc. Areas), City of Albuquerque.
| Approximately 500 feet west of Intersection of I-40 and Old Route 66 | None | * 5,988
Tributary A | Approximately 1,200 feet west of and parallel to Caballo De Fuenza Road | None | #1 | Bernalillo County (Uninc. Areas).
Tributary B | Approximately 1,200 feet east of and parallel to Caballo De Fuenza Road | None | #1 | Bernalillo County (Uninc. Areas).
Tributary C | North of Old Route 66 in T10N R4E Sec. 25 | None | #2 | Bernalillo County (Uninc. Areas).
Tributary D | North and south of Old Route 66 in T10N R5E Sec. 30 | None | #2 | Bernalillo County (Uninc. Areas).
Tributary E | South of Coyote Springs Road in T10N R5E Sec. 30 | None | #2 | Bernalillo County (Uninc. Areas).
Tributary F | North of Old Route 66 in T10N R5E Sec. 19 | None | #2 | Bernalillo County (Uninc. Areas).
# Depth in feet above ground
ADDRESSES
City of Albuquerque: Maps are available for inspection at the Public Works Department, Development and Building Services Division, 600 2nd Street NW, Albuquerque, New Mexico.
Send comments to The Honorable Jim Baca, Mayor, City of Albuquerque, P.O. Box 1293, Albuquerque, New Mexico, 87103.
Bernalillo County (Unincorporated Areas): Maps are available for inspection at 2400 Broadway, SE, Albuquerque, New Mexico.
Send comments to The Honorable Tom Rutherford, Chairman, Bernalillo County Board of Commissioners, 2400 Broadway, SE, Albuquerque, New Mexico 87102.
TEXAS
Lubbock County and Incorporated Areas
Blackwater Draw | From just upstream of IH-27 | *3,181 | *3,182 | City of Lubbock.
| To just downstream of Yucca Lane | *3,182 | *3,183
Playa System C1 | At confluence with Yellowhouse Draw | None | *3,180 | City of Lubbock
| Near intersection of Levelland Highway and Milwaukee Avenue (Playa 105) | *3,273 | *3,272
Playa System C2 | Near intersection of Erskin Street and Knoxville Avenue (Playa 53) | *3,221 | *3,221 | City of Lubbock.
Playa System C3 | At confluence with North Fork Double Mountain Fork of the Brazos River | None | *3,146 | City of Lubbock.
| Near intersection of Clovis Road and Baylor Street (at Playa System C1) | None | *3,211
Playa System D1 | At confluence with North Fork Double Mountain Fork of the Brazos River | *3,128 | *3,128 | City of Lubbock.
| Near intersection of 25th Street and Geneva Avenue (Tech Terrace Playa) | *3,211 | *3,212
| Near intersection of Kewanee Avenue and 32nd Street (Playa 40) | *3,262 | *3,261
Playa System D2 | At Maxey Park (Playa 43) | *3,226 | *3,226 | City of Lubbock.
| Near intersection of Levelland Highway and Utica Drive (Playa 45) | *3,242 | *3,242
Playa System D3 | At confluence with North Fork Double Mountain Fork of the Brazos River | None | *3,142 | City of Lubbock.
| Near 26th Street and Globe Avenue (at Playa System D1) | None | *3,185
Playa System E1 | Just upstream of confluence with North Fork Double Mountain Fork of the Brazos River | None | *3,094 | Lubbock County (Uninc. Areas), City of Lubbock.
| Near intersection of Milwaukee Avenue and County Road 6900 (Playa 39) | *3,269 | *3,269
Playa System E2 | Near intersection of Elgin Avenue and Loop 289 (at Playa System E1) | *3,222 | *3,223 | City of Lubbock.
| Northwest of intersection of 66th Street and Elgin Avenue | *3,225 | *3,224
Playa System E3 | Near Brownfield Highway and Highway 62/82 split (at Playa System E1 upper) | None | *3,276 | City of Lubbock.
| Near intersection of 59th Street and Upland Avenue (Playa 101) | None | *3,281
Playa System E4 (A, B, & C) | Just upstream of Route 327 | None | *3,267 | City of Lubbock.
| Northwest of the intersection of City of 82nd Street and Iola Avenue | None | *3,283
Playa System E5 & E7 | Near intersection of Dowden Avenue and Brownfield Highway | None | *3,289 | Lubbock County (Uninc. Areas), Town of Wolfforth.
| Near intersection of 82nd Street and Hartland Avenue | None | *3,307
Playa System E1 Upper & E8 | Northwest of intersection of Frankford Avenue and Highway 82/62 (Playa 37) | *3,266 | *3,267 | Lubbock County (Uninc. Areas), City of Lubbock.
| Southeast of intersection of 66th Street and Inler Avenue (Playa 138) | None | *3,302
Playa System E9 | Southwest of intersection of 66th Street and Quincy Avenue (at Playa System E4B) | None | *3,272 | City of Lubbock.
| Near intersection of Homestead Avenue and 82nd Avenue (Playa 32) | None | *3,289
Playa System E12 & E13 (Western Area) | Southeast of intersection of 34th Street and Hartland Avenue | None | *3,317 | Lubbock County (Uninc. Areas).
| Near intersection of Inler Avenue and 66th Street | None | *3,294
Playa System F | Near intersection of 50th Street and Avenue A (Playa 16) | None | *3,182 | City of Lubbock
| Near intersection of IH-27 and Highway 289 | *3,185 | *3,184
| Approximately 1 mile south of Highway 289 on IH-27 | None | *3,220
Playa System G1, G2 G3, & G4 | Near intersection of 98th Street and University Avenue (Playa 85) | *3,204 | *3,204 | City of Lubbock.
| Near intersection of 73rd Street and Bangor Avenue (Playa 30) | None | *3,260
Playa System G5 | Near intersection of 98th Street and Milwaukee Avenue (Playa 94) | None | *3,261 | Lubbock County (Uninc. Areas), City of Lubbock.
| Near intersection of 98th Street and Alcove Avenue (Playa 133) | None | *3,301
Playa Lake 13 & 15 | Near intersection of Slaton Road and Martin L. King Boulevard | None | *3,166 | City of Lubbock.
| Near intersection of Slaton Road and Martin L. King Boulevard | None | *3,171
Playa Lake 89 | Near intersection of 93rd Street and Memphis Avenue | None | *3,219 | City of Lubbock.
Ransom Canyon Lake | Near Lake Shore Drive | None | *2,957 | Lubbock County (Uninc. Areas), Village of Lake Ransom Canyon, Village of Buffalo Springs.
Slaton Plaza System | Near intersection of Division Street and New Mexico Street (Twin Lakes Playa) | None | *3,072 | City of Slaton.
| Near intersection of Dawson Street and Fisher Street (Compress Lake Playa) | None | *3,081
Woodrow Playa System | Near intersection of University Avenue and Woodrow Road | None | *3,194 | Lubbock County (Uninc. Areas).
Yellowhouse Draw | At confluence with North Fork Double Mountain Fork of the Brazos River | *3,156 | *3,157 | City of Lubbock.
| Just upstream of Atchison, Topeka and Santa Fe Railway | *3,172 | *3,173
| Just upstream of University Avenue | *3,191 | *3,192
| Approximately 5,500 feet upstream of Loop 289 North Service Road | *3,203 | *3,200
ADDRESSES
Village of Buffalo Springs: Maps are available for inspection at City Hall, #2 Marina Point, Pony Express Drive, Buffalo Springs, Texas.
Send comments to The Honorable Leland White, Mayor, Village of Buffalo Springs, Rural Route 10, Box 500, Buffalo Springs, Texas 79404.
Village of Lake Ransom Canyon: Maps are available for inspection at City Hall, 24 Lee Kitchens Drive, Ransom Canyon, Texas.
Send comments to The Honorable Leon Whetzel, Mayor, Village of Lake Ransom Canyon, 24 Lee Kitchens Drive, Ransom Canyon, Texas 79366.
Unincorporated Areas of Lubbock County: Maps are available for inspection at the Lubbock County Courthouse, 904 Broadway Street, Lubbock, Texas.
Send comments to The Honorable Thomas Head, Lubbock County Judge, P.O. Box 10536, Lubbock, Texas 79408.
City of Lubbock: Maps are available for inspection at City Hall, 1625 13th Street, Lubbock, Texas.
Send comments to The Honorable Windy Sitton, Mayor, City of Lubbock, P.O. Box 2000, Lubbock, Texas 79457-2000.
City of Slaton: Maps are available for inspection at City Hall, 130 South 9th Street, Slaton, Texas.
Send comments to The Honorable Don Kendrick, Mayor, City of Slaton, 130 South 9th Street, Slaton, Texas 79364.
Town of Wolfforth: Maps are available for inspection at City Hall, 328 East Highway 62/82, Wolfforth, Texas.
Send comments to The Honorable Sylvia Preston, Mayor, Town of Wolfforth, P.O. Box 36, Wolfforth, Texas 79382.
TEXAS
Travis County and Incorporated Areas
Colorado River/Lake Travis | Portions of Colorado River/Lake Travis from approximately 4 miles upstream to approximately 21 miles upstream of Mansfield Dam | *716 | *716 | Travis County (Uninc. Areas), City of Jonestown, City of Lago Vista, City of Lakeway.
Cow Creek | From confluence with Colorado River/Lake Travis to approximately 3 miles upstream | *716 | *716 | Travis County (Uninc. Areas).
Flat Creek | From confluence with Colorado River/Lake to approximately 2,100 feet upstream | *716 | *716 | Travis County (Uninc.Areas).
ADDRESSES
City of Jonestown: Maps are available for inspection at City Hall, 18649 FM 1431, Suite 4A, Jonestown, Texas.
Send comments to The Honorable Sam Billings, P.O. Box 5023, Jonestown, Texas 78645.
City of Lago Vista: Maps are available for inspection at City Hall, 5803 Thunderbird, Lago Vista, Texas.
Send comments to The Honorable Dennis Jones, P.O. Box 4727, Lago Vista, Texas 78645.
City of Lakeway: Maps are available for inspection at City Hall, 104 Cross Creek, Lakeway, Texas.
Send comments to The Honorable Charles Edwards, Mayor, City of Lakeway, 104 Cross Creek, Lakeway, Texas 78734.
Unincorporated Areas of Travis County: Maps are available for inspection at 411 West 13th Street, 8th Floor, Permit Office, Austin, Texas.
Send comments to The Honorable Samuel T. Biscoe, Travis County Judge, P.O. Box 1748, Austin, Texas 78767-1748.
WASHINGTON
Pend Oreille County and Incorporated Areas
Pend Oreille River | Approximately 19,600 feet downstream of Sullivan Lake Road | None | *2,041 | Pend Oreille County (Uninc. Areas), Towns of Metaline, Metaline Falls, Ione, Newport and Cusick.
| Just downstream of Usk Bridge | None | *2,054
| Approximately 4,000 feet downstream of U.S. Route 2, Near Rat Island | None | *2,056
ADDRESSES | Town of Cusick: Maps are available for inspection at the Town Hall, 105 First Street, Cusick, Washington.
Send comments to The Honorable Paul Haas, Mayor, Town of Cusick, P.O. Box 243, Cusick, Washington 99119.
Town of Ione: Maps are available for inspection at the Town Hall, 207 Houghton Street, Ione, Washington.
Send comments to The Honorable Arlen Baker, Mayor, Town of Ione, P.O. Box 498, Ione, Washington 99139.
Town of Metaline: Maps are available for inspection at the Town Hall, 101 Housing Drive, Metaline, Washington.
Send comments to The Honorable Walt Caravan, Mayor, Town of Metaline, 101 Housing Drive, Metaline, Washington 99152.
Town of Metaline Falls: Maps are available for inspection at the Town Hall, East 201 5th Avenue, Metaline Falls, Washington.
Send comments to The Honorable Jane E. Reed, Mayor, Town of Metaline Falls, P.O. Box 277, Metaline Falls, Washington 99153
City of Newport: Maps are available for inspection at the City Hall, South 200 Washington Avenue, Newport, Washington.
Send comments to The Honorable Dee Opp, Mayor, City of Newport, South 200 Washington Avenue, Newport, Washington 99156.
Unincorporated Areas of Pend Oreille County: Maps are available for inspection at the Planning Department, 625 West Fourth Street, Newport, Washington.
Send comments to The Honorable Mark Hansen, Chairman, Pend Oreille County Board of Commissioners, P.O. Box 5025, Newport, Washington 99156.

(Catalog of Federal Domestic Assistance No. 83.100, “Flood Insurance.”)
Dated: July 31, 2001.
Robert F. Shea,
Acting Administrator, Federal Insurance and Mitigation Administration.

[FR Doc. 01-19685 Filed 8-6-01; 8:45 am]

BILLING CODE 6718-04-P